DEPARTMENT OF HEALTH AND HUMAN SERVICES

Centers for Disease Control and Prevention

[Docket Number NIOSH 345]

National Institute for Occupational Safety and Health Tribal Consultation Session

AGENCY: Centers for Disease Control and Prevention (CDC), Department of Health and Human Services (HHS).

ACTION: Notice of meeting and request for testimony.

SUMMARY: The National Institute for Occupational Safety and Health (NIOSH), within the Centers for Disease Control and Prevention (CDC) announces a CDC Tribal Consultation Session. CDC will host American Indian and Alaska Native (AI/AN) Federally Recognized Tribes for a virtual tribal consultation session on the NIOSH draft strategic plan entitled American Indian and Alaska Native Worker Safety and Health Strategic Plan. The proceedings will be open to the public.

DATES: The tribal consultation will be held February 3, 2022, from 4:15 p.m. to 6:00 p.m., EST.

NIOSH will accept written tribal testimony until 5:00 p.m., EST, on February 24, 2022.

ADDRESSES: Written tribal testimony should be submitted by either of the following ways:

• By Email: niocindocket@cdc.gov; or

• By Mail: Sherri Diana, NIOSH Docket Office, 1090 Tusculum Avenue, MS C-34, Cincinnati, Ohio 45226-1998.

Instructions: All submissions must include Tribal affiliation and Docket number (NIOSH 345). All relevant comments, including any personal information provided, will be posted without change.

FOR FURTHER INFORMATION CONTACT: David Caruso, National Institute for Occupational Safety and Health (NIOSH), Western States Division, P.O. Box 25226, Denver, Colorado 80225-0226; Telephone: (303) 236-5909 (this is not a toll-free number); Email: DCaruso@cdc.gov; or Elizabeth Dalsey, NIOSH Western State Division, P.O. Box 25226, Denver, Colorado 80225-0226; Telephone: (303) 236-5955 (this is not a toll-free number; Email: EDalsey@cdc.gov.

SUPPLEMENTARY INFORMATION:

Public Participation

Federally Recognized Indian Tribes represented by the Tribal President, Tribal Chair, or Tribal Governor, or an elected or appointed Tribal Leader, or their authorized representative(s) may participate in this consultation by submitting written views, opinions, recommendations, and data. Testimony may be submitted on any topic related to this draft strategic plan. Testimony received, including attachments and other supporting materials, are part of the public record and subject to public disclosure. Do not include any information in your testimony or supporting materials you consider confidential or inappropriate for public disclosure. If you include your name, contact information, or other information that identifies you in the body of your testimony, that information will be on public display. NIOSH will review all submissions and may choose to redact, or withhold, submissions containing private or proprietary information such as Social Security numbers, medical information, inappropriate language, or duplicate/near duplicate examples of a mass-mail campaign. NIOSH will carefully consider all testimony submitted into the docket.

Oral Tribal Testimony: Based on the number of participants giving testimony and the time available, it may be necessary to limit the time for each presenter. We will adjourn the tribal consultation meeting early if all attendees who requested to provide oral testimony in advance of and during the consultation have delivered their testimony.

Written Tribal Testimony: Written testimony will be accepted per the instructions provided in the ADDRESSES section above. Written testimony received in advance of the meeting will be included in the official record of the meeting. The consultation meeting will be recorded, transcribed, and posted without change to https://www.cdc.gov/niosh/docket/, including any personal information provided.

This meeting is being held in accordance with Presidential Executive Order No. 13175, November 6, 2000, and the Presidential Memorandum of November 5, 2009, and September 23, 2004, Consultation and Coordination with Indian Tribal Government and CDC/ATSDR's Tribal Consultation Policy which can be found at https://www.cdc.gov/tribal/documents/consultation/policy475.pdf.

Purpose: The purpose of the consultation meeting is to advance NIOSH's support for, and collaboration with, federally recognized American Indian and Alaska Native (AI/AN) tribes, and to improve the health of AI/AN tribal nations by pursuing research and outreach activities to prevent injuries, illnesses, and fatalities to AI/AN workers. To advance these goals, CDC conducts government-to-government consultations with Indian Tribes represented by the Tribal President, Tribal Chair, or Tribal Governor, or an elected or appointed Tribal Leader, or their authorized representative(s) to the extent practicable and permitted by law before CDC takes any action that will significantly affect Indian Tribes. Consultation is an enhanced form of communication that emphasizes trust, respect, and shared responsibility. It is an open and free exchange of information and opinion among parties that leads to mutual understanding.

Matters To Be Considered: NIOSH is hosting this meeting to receive input from federally recognized tribes on the development of an American Indian and Alaska Native Worker Safety and Health Strategic Plan. AI/AN workers account for 2.7 million or 1.8% of the total U.S. workforce. These workers are employed in a wide variety of occupations, with the highest numbers in office and administrative support, sales and related occupations, management, transportation, and food preparation and services. Tribes are often the largest employer on tribal lands. Many AI/AN workers are also employed through tribal enterprises such as medical care, housing, manufactured products, food production, livestock production, and tourism. National data on occupational injuries, illnesses, and fatalities among AI/AN workers are scarce, and there is limited research on worker safety, health, and well-being in tribal communities. Given the lack of systematic data collection, the true numbers of occupational injuries, illnesses, and fatalities are likely much higher. NIOSH is proposing research and outreach activities to enhance worker safety and health in tribal communities and requests input on the draft American Indian and Alaska Native Worker Safety and Health Strategic Plan, 2022-2031. Agenda items are subject to change as priorities dictate.

Meeting Information: Zoom Virtual Tribal Consultation. If you wish to attend the virtual consultation session, please register by accessing the CDC web page at: https://cdc.zoomgov.com/meeting/register/vJItdeipqzIvGgMKRWjU6mOIfMiRxs3dggw. Instructions to access the Zoom virtual consultation will be provided in the link following registration. All elected tribal officials are encouraged to submit written tribal testimony by mail, or email. Additional information about CDC/ATSDR's Tribal Consultation Policy can be found at https://www.cdc.gov/tribal/consultation-support/tribal-consultation/sessions.html.

The Director, National Institute for Occupational Safety and Health, Centers for Disease Control and Prevention, has been delegated the authority to sign Federal Register notices pertaining to announcements of meetings and other committee management activities.

John J. Howard,
Director, National Institute for Occupational Safety and Health, Centers for Disease Control and Prevention.

[FR Doc. 2021-26016 Filed 11-29-21; 8:45 am]

BILLING CODE 4163-18-P